FEDERAL MARITIME COMMISSION

[Docket No. 01-01]

The Impact of the Ocean Shipping Reform Act of 1998; Notice of Issuance of Notice of Inquiry

Notice is given that on January 22, 2001, the Federal Maritime Commission (“Commission”) issued a Notice of Inquiry (“Inquiry”) to solicit information and comments concerning the impact of the Ocean Shipping Reform Act of 1998 on all sectors of the international liner transportation system.

Although most of the Inquiry's questions are designed to elicit responses from a broad range of industry participants, a few of the questions are addressed to specific industry sectors, such as vessel-operating common carriers, ocean transportation intermediaries (non-vessel-operating common carriers and ocean freight forwarders), or shippers (whether individual beneficial owners, shippers' associations or non-vessel-operating common carriers), port authorities and marine terminal operators. All commenters are encouraged to complete at least those parts of the Inquiry which deal with their specific industry sector, and to respond to as many of the non-sector-specific questions as possible. These comments will assist the Commission's analysis and evaluation of the new Act's effects during its first two years in force. That analysis and evaluation will be incorporated into the Commission's ongoing Ocean Shipping Reform Act Impact Study, which is scheduled to be released in the summer of 2001.

Responses to the Inquiry are due on or before March 12, 2001. If requested, the Commission will provide confidential treatment to a response or portion thereof to the extent permitted by law. The Inquiry contains additional information for responding.

The full text of the Inquiry may be viewed on the Commission's home page at http://www.fmc.gov, or at the Office of the Secretary, Room 1046, 800 N. Capitol Street, NW, Washington, DC. The Office of the Secretary may be contacted at (202) 523-5725 or by e-mail at Secretary@fmc.gov.

Dated: January 22, 2001.
By the Commission.
Bryant L. VanBrakle,
Secretary.

[FR Doc. 01-2310 Filed 1-24-01; 8:45 am]

BILLING CODE 6730-01-P